DEPARTMENT OF AGRICULTURE

Agricultural Marketing Service

7 CFR Part 66

[Document No. AMS-FTPP-19-0104]

National Bioengineered Food Disclosure Standard; Validation of Refining Processes

ACTION: Reopening of comment period.

SUMMARY: Notice is hereby given that the comment period for a proposed rule published in the Federal Register on December 17, 2019, is reopened. The document invited comments on draft instructions for validation of refining processes as it pertains to the National Bioengineered Food Disclosure Standard (Standard).

DATES: The comment period for the proposed rule published December 17, 2019 at 84 FR 68816 is reopened. Comments are due by February 7, 2020.

ADDRESSES: We invite you to submit written comments via the internet at http://www.regulations.gov. All comments should refer to the date and page number of this issue of the Federal Register. All comments submitted in response to the notice, including the identity of individuals or entities submitting comments, will be made available to the public on the internet via http://www.regulations.gov.

FOR FURTHER INFORMATION CONTACT: Trevor Findley, Deputy Director, Food Disclosure and Labeling Division, Fair Trade Practices Program, Agricultural Marketing Service, U.S. Department of Agriculture, telephone (202) 690-3460, email trevor.findley@usda.gov.

SUPPLEMENTARY INFORMATION: A proposed rule seeking comment on draft instructions for validation of refining processes was published in the Federal Register on December 17, 2019 (84 FR 68816). In the preamble to the final regulations establishing the Standard, USDA indicated that it would provide instructions to the industry to explain how they can ensure acceptable validation of refining processes in accordance with AMS standards (83 FR 65843). A draft of those instructions is available on the AMS bioengineered food disclosure website at https://www.ams.usda.gov/rules-regulations/be. AMS is seeking comments on these draft instructions.

After reviewing the comments on these draft instructions, AMS will publish final instructions on its website. The final instructions will be maintained and available on the AMS website. These final instructions pertain to the requirements of the existing regulations, which can be found at https://www.federalregister.gov/documents/2018/12/21/2018-27283/national-bioengineered-food-disclosure-standard.

The original 30-day comment period provided in the proposed rule closed on January 16, 2020. Stakeholders have requested an extension of the comment period. The Agricultural Marketing Service is reopening the public comment period for an additional 15 days to ensure that interested persons have sufficient time to review and comment on the proposed rule. The comment period is reopened for 15 days from the date of publication of this notice.

Authority: 7 U.S.C. 1639.

Dated: January 16, 2020.
Bruce Summers,
Administrator, Agricultural Marketing Service.

[FR Doc. 2020-01019 Filed 1-22-20; 8:45 am]

BILLING CODE 3410-02-P